DEPARTMENT OF THE INTERIOR

Office of the Secretary

[Docket No. DO1-2022-0003; 223D0102DM, DS6CS00000, DLSN00000.000000, DX.6CS25]

Request for Information To Inform Interagency Working Group on Mining Regulations, Laws, and Permitting

AGENCY: Department of the Interior.

ACTION: Notice of public listening sessions and extension of public comment period.

SUMMARY: The Department of the Interior is announcing the dates of public listening sessions the Interagency Working Group on Mining Regulations, Laws, and Permitting is holding to gather information and develop recommendations for improving Federal hardrock mining regulations, laws, and permitting processes. We are also extending the comment period on our March 31, 2022, request for information notice announcing the formation of an interagency working group to gather information and develop recommendations for improving Federal hardrock mining regulations, laws, and permitting processes.

DATES: The public comment period on our request for information notice that published on March 31, 2022, at 86 FR 18811 is extended. Interested persons are invited to submit comments by 11:59 p.m. August 30, 2022.

The interagency group will host virtual public listening sessions at the dates and times below.

• 12:00 p.m.-1:30 p.m. ET Tuesday, July 19th

• 1:00 p.m.-2:30 p.m. ET Thursday, July 21st

• 1:00 p.m.-2:30 p.m. ET Tuesday, July 26th

Please register at the following link to receive further communication regarding the details of the listening session, including an invite.

https://blm.zoomgov.com/webinar/register/WN_7aYgS_MQQpSTKRoB88n03A

https://blm.zoomgov.com/webinar/register/WN_DECbin4eQ_CwYEpEOM3lpQ

https://blm.zoomgov.com/webinar/register/WN_KUjEwhI-Q5qB2ZGYtBbMYA

Listening sessions may end before the time noted above if all those participating have completed their oral comments.

ADDRESSES: Comments may be submitted through https://www.regulations.gov and will be available for public viewing and inspection. In the Search box, enter the docket number presented above in the document headings. For best results, do not copy and paste the number; instead, type the docket number into the Search box using hyphens. Then, click on the Search button. You may submit a comment by clicking on “Comment.” Comments may also be submitted by mail using the following address: Bureau of Land Management, Division of Solid Minerals, 1849 C Street NW, Room 5645, Washington, DC 20240.

FOR FURTHER INFORMATION CONTACT: Steven Feldgus, Deputy Assistant Secretary, Land and Minerals Management, (202) 208-6734, or by email at miningreform@ios.doi.gov. Individuals in the United States who are deaf, deafblind, hard of hearing, or have a speech disability may dial 711 (TTY, TDD, or TeleBraille) to access telecommunications relay services for contacting Mr. Feldgus. Individuals outside the United States should use the relay services offered within their country to make international calls to the point-of-contact in the United States.

SUPPLEMENTARY INFORMATION: On February 24, 2021, President Biden signed Executive Order (E.O.) 14017, “America's Supply Chains.” On June 8, 2021, the White House released the 100-Day reviews directed by E.O. 14017, which included a recommendation for the Federal government to establish “an interagency team with expertise in mine permitting and environmental law to identify gaps in statutes and regulations that may need to be updated to ensure new production meets strong environmental standards throughout the lifecycle of the project; ensure meaningful community consultation and consultation with tribal nations, respecting the government-to-government relationship, at all stages of the mining process; and examine opportunities to reduce time, cost, and risk of permitting without compromising these strong environmental and consultation benchmarks.” ¹

¹ The White House, Building Resilient Supply Chains, Revitalizing American Manufacturing, and Fostering Broad-Based Growth, June 2021, p. 14. https://www.whitehouse.gov/briefing-room/statements-releases/2021/06/08/fact-sheet-biden-harris-administration-announces-supply-chain-disruptions-task-force-to-address-short-term-supply-chain-discontinuities/.

On September 16, 2021, the Department of the Interior (Department) received a petition for rulemaking pursuant to the Department's regulations at 43 CFR part 14 from 9 Tribal and 31 conservation groups requesting “a rulemaking to strengthen and modernize [the Bureau of Land Management's] regulations at 43 CFR part 3800 et seq.”

On November 15, 2021, President Biden signed the Infrastructure Investment and Jobs Act (IIJA); section 40206 of the IIJA, “Critical Minerals Supply Chains and Reliability,” directs the Secretaries of the Interior and Agriculture to submit a report to Congress by November 15, 2022, that “identifies additional measures, including regulatory and legislative proposals, if appropriate, that would increase the timeliness of permitting activities for the exploration and development of domestic critical minerals.”

To respond to these directives and the rulemaking petition, the Department has created an interagency working group (IWG) on Federal hardrock mining laws, regulations, and permitting, chaired by the Department and including the Department of Agriculture through the U.S. Forest Service; the Environmental Protection Agency; the Army Corps of Engineers; the Departments of Commerce, Energy, Defense, and State; the Council on Environmental Quality; and the National Economic Council. For the purposes of the IWG, “hardrock” minerals are those mineral resources that are subject to disposal under the Mining Law of 1872.

Before including your address, phone number, email address, or other personal identifying information in your comment, you should be aware that your entire comment—including your personal identifying information—may be made publicly available at any time. While you can ask us in your comment to withhold your personal identifying information from public review, we cannot guarantee that we will be able to do so.

Tommy Beaudreau,
Deputy Secretary, U.S. Department of the Interior.

[FR Doc. 2022-15114 Filed 7-14-22; 8:45 am]

BILLING CODE 4334-63-P